DEPARTMENT OF HOUSING AND URBAN DEVELOPMENT

[Docket No. FR-6132-D-01]

Order of Succession for the Office of Administration

AGENCY: Office of the Deputy Secretary, HUD.

ACTION: Notice of order of succession.

SUMMARY: In this notice, the Deputy Secretary for the Department of Housing and Urban Development designates the Order of Succession for the Office of Administration. This Order of Succession supersedes all prior orders of succession for the Office of Administration.

DATES: October 18, 2018.

FOR FURTHER INFORMATION CONTACT: John B. Shumway, Assistant General Counsel for Administrative Law, Office of General Counsel, Department of Housing and Urban Development, 451 7th Street SW, Room 9262, Washington, DC 20410-0500, telephone number 202-402-5190. (This is not a toll-free number.) Individuals with speech or hearing impairments may access this number through TTY by calling 1-800-877-8339.

SUPPLEMENTARY INFORMATION: The Deputy Secretary of the Department of Housing and Urban Development is issuing this Order of Succession of officials authorized to perform the functions and duties of the Assistant Secretary for Administration when, by reason of absence, disability, or vacancy in office, the Assistant Secretary for Administration is not available to exercise the powers or perform the duties of the office. This Order of Succession is subject to the provisions of the Federal Vacancies Reform Act of 1998 (5 U.S.C. 3345-3349d). This publication supersedes all prior orders of succession for the Office of Administration. Accordingly, the Deputy Secretary designates the following Order of Succession:

Section A. Order of Succession

Subject to the provisions of the Federal Vacancies Reform Act of 1998, during any period when, by reason of absence, disability, or vacancy in office, the Assistant Secretary for Administration is not available to exercise the powers or perform the duties of the Assistant Secretary for Administration, the following officials within the Office of Administration are hereby designated to exercise the powers and perform the duties of the office. No individual who is serving in an office listed below in an acting capacity shall act as the Assistant Secretary for Administration pursuant to this Order of Succession.

1. Principal Deputy Assistant Secretary for Administration;

2. General Deputy Assistant Secretary for Administration;

3. Chief Administrative Officer;

4. Chief Human Capital Officer;

5. Chief Procurement Officer.

These officials shall perform the functions and duties of the office in the order specified herein, and no official shall serve unless all the other officials, whose position titles precede his/hers in this order, are unable to act by reason of absence, disability, or vacancy in office.

Section B. Authority Superseded

This Order of Succession supersedes all prior orders of succession for the Office of Administration.

Authority: Section 7(d), Department of Housing and Urban Development Act, 42 U.S.C. 3535(d).

Dated: October 18, 2018.
Pamela H. Patenaude,
Deputy Secretary.

[FR Doc. 2018-23237 Filed 10-23-18; 8:45 am]

BILLING CODE 4210-67-P